DEPARTMENT OF THE TREASURY

Public Meeting of the President's Advisory Panel on Federal Tax Reform

AGENCY: Department of the Treasury.

ACTION: Notice of meeting.

SUMMARY: This notice advises all interested persons of the locations of the March 23, 2005, and the March 31, 2005, public meetings of the President's Advisory Panel on Federal Tax Reform. These meetings were previously announced in 70 FR 11731 (March 9, 2005) and 70 FR 12532 (March 14, 2005).

DATES: The meetings will be held on Wednesday, March 23, 2005, at 9:30 a.m., in New Orleans, Louisiana, and on Thursday, March 31, 2005, at 9 a.m. in San Francisco, California.

ADDRESSES: The March 23 meeting will be held at The Louisiana Children's Museum, 420 Julia Street, New Orleans, Louisiana, 70130. The March 31 meeting will be held at the Fort Mason Center, Landmark Building A, Fort Mason Center, San Francisco, California, 94123-1382. Seating will be available on a first-come, first-served basis.

FOR FURTHER INFORMATION CONTACT: The Panel staff at (202) 927-2TAX (927-2829) (not a toll-free call) or e-mail info@taxreformpanel.gov (please do not send comments to this box). Additional information is available at http://www.taxreformpanel.gov.

Dated: March 18, 2005.
Mark S. Kaizen,
Designated Federal Officer.

[FR Doc. 05-5741 Filed 3-21-05; 8:45 am]

BILLING CODE 4810-25-P